DEPARTMENT OF THE INTERIOR

Bureau of Land Management

[LLCO956000 L14400000.BJ0000]

Notice of Filing of Plats of Survey; Colorado

AGENCY: Bureau of Land Management, Interior.

ACTION: Notice of Filing of Plats of Survey; Colorado.

SUMMARY: The Bureau of Land Management (BLM) Colorado State Office is publishing this notice to inform the public of the intent to officially file the survey plats listed below and afford a proper period of time to protest this action prior to the plat filing. During this time, the plats will be available for review in the BLM Colorado State Office.

DATES: Unless there are protests of this action, the filing of the plats described in this notice will happen on August 3, 2015.

ADDRESSES: BLM Colorado State Office, Cadastral Survey, 2850 Youngfield Street, Lakewood, CO 80215-7093.

FOR FURTHER INFORMATION CONTACT: Randy Bloom, Chief Cadastral Surveyor for Colorado, (303) 239-3856.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The plat, in 2 sheets, and field notes of the dependent resurvey, survey and supplemental plat in Townships 45 and 46 North, Range 7 East, New Mexico Principal Meridian, Colorado, were accepted on May 12, 2015.

The plat and field notes of the limited corrective dependent resurvey in Township 43 North, Range 6 East, New Mexico Principal Meridian, Colorado, were accepted on May 18, 2015.

The plat incorporating the field notes of the dependent resurvey and subdivision of section 3 in Township 14 South, Range 77 West, Sixth Principal Meridian, Colorado, was accepted on June 10, 2015.

The plat incorporating the field notes of the dependent resurvey in Township 35 North, Range 15 West, New Mexico Principal Meridian, Colorado, was accepted on June 19, 2015.

Randy Bloom,
Chief Cadastral Surveyor for Colorado.

[FR Doc. 2015-16290 Filed 7-1-15; 8:45 am]

BILLING CODE 4310-JB-P